ENVIRONMENTAL PROTECTION AGENCY

40 CFR Part 52

[EPA-R09-OAR-2019-0240; FRL-10000-01-Region 9]

Designation of Areas for Air Quality Planning Purposes: California; Coachella Valley 8-Hour Ozone Nonattainment Area; Reclassification to Extreme; Correction

AGENCY: Environmental Protection Agency (EPA).

ACTION: Final rule; correction.

SUMMARY: On July 10, 2019, the Environmental Protection Agency (EPA) published in the Federal Register a rule entitled “Designation of Areas for Air Quality Planning Purposes; California; Coachella Valley 8-Hour Ozone Nonattainment Area; Reclassification to Extreme.” That publication inadvertently included the incorrect docket number for the rule. This document corrects that error.

DATES: This document is effective on September 26, 2019.

FOR FURTHER INFORMATION CONTACT: Tom Kelly, Air Planning Office (AIR-2), EPA Region IX, (415) 972-3856, kelly.thomasp@epa.gov.

SUPPLEMENTARY INFORMATION: On July 10, 2019 (84 FR 32841), the EPA published a final rule entitled “Designation of Areas for Air Quality Planning Purposes; California; Coachella Valley 8-Hour Ozone Nonattainment Area; Reclassification to Extreme” that granted a request from the State of California to reclassify the Coachella Valley nonattainment area from “Severe-15” to “Extreme” for the 1997 ozone national ambient air quality standards. That publication incorrectly identified the docket number, which could make it difficult for members of the public to locate documents related to the reclassification. This document corrects the docket number in that rule.

In FR Doc. 2019-14612, published July 10, 2019 (84 FR 32841), make the following corrections:

1. On page 32841, in the third column, correct the docket number for “Designation of Areas for Air Quality Planning Purposes; California; Coachella Valley 8-Hour Ozone Nonattainment Area; Reclassification to Extreme” to read: “[EPA-OAR-R09-2019-0240; FRL-9996-12-Region 9]”

2. On page 32842, in the first column, correct the first sentence of the ADDRESSES caption to read:

“The EPA has established a docket for this action under Docket ID No. EPA-R09-OAR-2019-0240”.

Dated: September 6, 2019.
Deborah Jordan,
Acting Regional Administrator, Region IX.

[FR Doc. 2019-20424 Filed 9-25-19; 8:45 am]

BILLING CODE 6560-50-P